DEPARTMENT OF TRANSPORTATION

Federal Motor Carrier Safety Administration

Solicitation of Applications for FY 2008, Commercial Motor Vehicle (CMV) Operator Safety Training Grant Opportunity

AGENCY: Federal Motor Carrier Safety Administration (FMCSA), DOT.

ACTION: Notice.

SUMMARY: FMCSA announces that it has published an opportunity to apply for FY 2008 funding for the CMV Operator Safety Training Grant on the grants.gov Web site (http://www.grants.gov). This opportunity was established by Section 4134 of the Safe, Accountable, Flexible, Efficient Transportation Equity Act: A Legacy for Users (SAFETEA-LU, Pub. L. 109-59). This legislation requires grant recipients to train current and future drivers in the safe operation of CMVs, as defined in Section 31301 of Title 49, United States Code. Funding priority will be given to regional or multi-state educational or nonprofit associations serving economically distressed regions of the United States. Eligible awardees can also include State governments, local governments, and accredited post-secondary educational institutions (public or private) such as colleges, universities, vocational-technical schools and truck driver training schools. To apply for funding, applicants must first be registered with grants.gov at the following link: http://www.grants.gov/applicants/get_registered.jsp. Note that grants.gov registration takes three to five business days to process your information before you can apply. Applications for grant funding must be submitted electronically to the FMCSA through the grants.gov Web site following the instructions provided on the site. The Catalog of Federal Domestic Assistance (CFDA) number for the CMV Safety Training Grant Opportunity 20.235.

DATES: FMCSA will initially consider funding of applications submitted by January 5, 2008 from qualified applicants. If additional funding remains available, applications submitted after January 5, 2008 will be considered on a case-by-case basis. Funds will not be available for allocation until such time as FY 2008 appropriations legislation is passed and signed into law. Funding is subject to reductions resulting from obligation limitations or rescissions as specified in SAFETEA-LU or other legislation.

FOR FURTHER INFORMATION CONTACT: Ms. Julie Otto, Transportation Specialist, Federal Motor Carrier Safety Administration, Office of Safety Programs, State Programs Division (MC-ESS), 202-366-0710, 1200 New Jersey Avenue, SE., Washington, DC 20590. Office hours are from 8:30 a.m. to 5:30 p.m., EST, Monday through Friday, except Federal holidays.

Issued on: November 19, 2007.
Michael Lamm,
Acting Associate Administrator for Enforcement and Program Delivery.

[FR Doc. E7-23108 Filed 11-27-07; 8:45 am]

BILLING CODE 4910-EX-P